DEPARTMENT OF THE INTERIOR

Bureau of Land Management

[LLHQ320000.L13300000.EN0000; OMB Control No. 1004-0201]

Agency Information Collection Activities; Submission to the Office of Management and Budget for Review and Approval; Oil Shale Management

AGENCY: Bureau of Land Management, Interior.

ACTION: Notice of information collection; request for comment.

SUMMARY: In accordance with the Paperwork Reduction Act of 1995, the Bureau of Land Management (BLM) is proposing to renew an information collection.

DATES: Interested persons are invited to submit comments on or before January 10, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request additional information about this ICR, contact Sabry Hanna by email at shanna@blm.gov, or by telephone at (571) 458-6644. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 12, 2023 (88 FR 62592).

As part of our continuing effort to reduce paperwork and respondent burdens, we are again soliciting comments from the public and other Federal agencies on the proposed ICR that is described below. We are especially interested in public comment addressing the following:

(1) Whether the collection of information is necessary for the proper performance of the functions of the agency, including whether the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This control number applies to the exploration, development, and utilization of oil shale resources on the BLM-managed public lands. Currently, the only oil shale leases issued by the BLM are research, development, and demonstration (RD&D) leases. However, the BLM regulations provide a framework for commercial oil shale leasing and additionally include provisions for conversion of RD&D leases to commercial leases. Section 369 of the Energy Policy Act (42 U.S.C. 15927) addresses oil shale development and authorizes the Secretary of the Interior to establish regulations for a commercial leasing program for oil shale. The Mineral Leasing Act of 1920 (30 U.S.C. 241(a)) provides the authority for the BLM to allow for the exploration, development, and utilization of oil shale resources on the BLM-managed public lands. Additional statutory authorities for the oil shale program are: (1) The Mineral Leasing Act for Acquired Lands of 1947 (30 U.S.C. 351-359); and (2) The Federal Land Policy and Management Act (FLPMA) of 1976 (43 U.S.C. 1701 et seq., including 43 U.S.C. 1732). OMB Control Number 1004-0201 is currently scheduled to expire on June 30, 2024. The BLM request that OMB renew this OMB control number for an additional three (3) years.

Title of Collection: Oil Shale Management (43 CFR parts 3900, 3910, 3920, and 3930).

OMB Control Number: 1004-0201.

Form Number: None.

Type of Review: Extension of a currently approved collection.

Respondents/Affected Public: Applicants for oil shale leases, oil shale lessees and oil shale operators.

Total Estimated Number of Annual Respondents: 2.

Total Estimated Number of Annual Responses: 24.

Estimated Completion Time per Response: Varies from the number of minutes/hours per response.

Total Estimated Number of Annual Burden Hours: 1,795.

Respondent's Obligation: Required to obtain or retain a benefit.

Frequency of Collection: On occasion.

Total Estimated Annual Nonhour Burden Cost: $526,737.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2023-27132 Filed 12-8-23; 8:45 am]

BILLING CODE 4310-84-P